DEPARTMENT OF COMMERCE

International Trade Administration

[A-560-833]

Utility Scale Wind Towers From Indonesia: Preliminary Results of Antidumping Duty Administrative Review; 2021-2022

AGENCY: Enforcement and Compliance, International Trade Administration, Department of Commerce.

SUMMARY: The U.S. Department of Commerce (Commerce) preliminarily finds that utility scale wind towers (wind towers) from Indonesia were sold at less than normal value during the period of review (POR) August 1, 2021, through July 31, 2022. We invite interested parties to comment on these preliminary results of review.

DATES: Applicable September 7, 2023.

FOR FURTHER INFORMATION CONTACT: Amaris Wade, AD/CVD Operations, Office II, Enforcement and Compliance, International Trade Administration, U.S. Department of Commerce, 1401 Constitution Avenue NW, Washington, DC 20230; telephone: (202) 482-6334; email: amaris.wade@trade.gov.

SUPPLEMENTARY INFORMATION:

Background

On August 26, 2020, Commerce published in the Federal Register the antidumping duty (AD) order on wind towers from Indonesia.¹ On August 2, 2022, Commerce published in the Federal Register a notice of opportunity to request an administrative review of the Order.² On October 11, 2022, based on timely requests for review, in accordance with 19 CFR 351.221(c)(1)(i), we initiated an AD administrative review of P.T. Kenertec Power System (Kenertec), GE Indonesia, GE Renewable Energy, General Electric Indonesia, Korindo Wind, Nordex SE, PT. Siemens Gamesa Renewable Energy, and Siemens Gamesa Renewable Energy.³ On October 25, 2022, Commerce issued the AD questionnaire to Kenertec.⁴

¹ See Utility Scale Wind Towers from Canada, Indonesia, the Republic of Korea, and the Socialist Republic of Vietnam: Antidumping Duty Orders, 85 FR 52546 (August 26, 2020) (Order), as corrected in Utility Scale Wind Towers from Canada, Indonesia, the Republic of Korea, and the Socialist Republic of Vietnam: Notice of Correction to the Antidumping Duty Orders, 85 FR 56213 (September 11, 2020).

² See Antidumping or Countervailing Duty Order, Finding, or Suspended Investigation; Opportunity to Request Administrative Review and Join Annual Inquiry Service List, 87 FR 47187 (August 2, 2022).

³ See Initiation of Antidumping and Countervailing Duty Administrative Reviews, 87 FR 61278 (October 11, 2022).

⁴ See Commerce's Letter, “Request for Information,” dated October 25, 2022.

On April 21, 2023, Commerce extended the preliminary results of this review until August 31, 2023.⁵ For a complete description of the events that followed the initiation of this review, see the Preliminary Decision Memorandum.⁶

⁵ See Memorandum, “Extension of Deadline for Preliminary Results of 2021-2022 Antidumping Duty Administrative Review,” dated April 21, 2023.

⁶ See Memorandum, “Decision Memorandum for the Preliminary Results of Antidumping Duty Administrative Review; 2021-2022: Utility Scale Wind Towers from Indonesia,” dated concurrently with, and hereby adopted by, this notice (Preliminary Decision Memorandum).

Scope of the Order

The products covered by the Order are utility scale wind towers from Indonesia.⁷

⁷ For a complete description of the scope of the Order, see Preliminary Decision Memorandum.

Methodology

Commerce is conducting this review in accordance with sections 751(a)(1)(B) and (2) of the Tariff Act of 1930, as amended (the Act). Constructed export price is calculated in accordance with section 772 of the Act. Normal value is calculated in accordance with section 773 of the Act.

For a full description of the methodology underlying these preliminary results, see the Preliminary Decision Memorandum. A list of the topics discussed in the Preliminary Decision Memorandum is attached as an appendix to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

Rate for Non-Examined Companies

The statute and Commerce's regulations do not address the establishment of a rate to be applied to companies not selected for individual examination when Commerce limits its examination in an administrative review pursuant to section 777A(c)(2) of the Act. Generally, Commerce looks to section 735(c)(5) of the Act, which provides instructions for calculating the all-others rate in a market economy investigation, for guidance when calculating the rate for companies that were not selected for individual examination in an administrative review. Under section 735(c)(5)(A) of the Act, the all-others rate is normally an amount equal to the weighted average of the estimated weighted-average dumping margins established for exporters and producers individually investigated, excluding any zero or de minimis margins, and any margins determined entirely on the basis of facts available.

In this review, the following seven companies were not selected for individual examination: GE Indonesia; GE Renewable Energy; General Electric Indonesia; Korindo Wind; Nordex SE; PT. Siemens Gamesa Renewable Energy; and Siemens Gamesa Renewable Energy. Because we have preliminarily calculated a weighted-average dumping margin for a single respondent, Kenertec, which is not zero, de minimis, or determined entirely based on facts available, in accordance with section 735(c)(5)(A) of the Act, we assigned the weighted-average dumping margin we calculated for Kenertec in this administrative review to the companies not selected for individual examination.

Preliminary Results of Review

We preliminarily determine that the following estimated weighted-average dumping margins exist for the period August 1, 2021, through July 31, 2022:

Producer/exporter | Weighted- average dumping margin (percent)
P.T. Kenertec Power System | 3.06
GE Indonesia | 3.06
GE Renewable Energy | 3.06
General Electric Indonesia | 3.06
Korindo Wind | 3.06
Nordex SE | 3.06
PT. Siemens Gamesa Renewable Energy | 3.06
Siemens Gamesa Renewable Energy | 3.06

Disclosure and Public Comment

Commerce intends to disclose the calculations performed to interested parties within five days after public announcement, or if there is no public announcement, within five days of the publication date, of the preliminary results.⁸ Interested parties may submit case briefs no later than 30 days after the date of publication of this notice.⁹ Rebuttal briefs, limited to issues raised in the case briefs, may be filed no later than seven days after the deadline for filing case briefs.¹⁰ Interested parties who submit case briefs or rebuttal briefs in this proceeding are encouraged to submit with each argument: (1) a statement of the issue; (2) a brief summary of the argument; and (3) a table of authorities.¹¹ Commerce has temporarily modified certain of its requirements for serving documents containing business proprietary information, until further notice.¹²

⁸ See 19 CFR 351.224(b).

⁹ See 19 CFR 351.309(c).

¹⁰ Commerce is exercising its discretion, under 19 CFR 351.309(d)(1), to alter the time limit for filing of rebuttal briefs.

¹¹ See 19 CFR 351.309(c)(2) and (d)(2).

¹² See Temporary Rule Modifying AD/CVD Service Requirements Due to COVID-19; Extension of Effective Period, 85 FR 41363 (July 10, 2020).

Pursuant to 19 CFR 351.310(c), interested parties who wish to request a hearing must submit a written request to the Assistant Secretary for Enforcement and Compliance, filed electronically via ACCESS.¹³ Hearing requests should contain: (1) the party's name, address, and telephone number; (2) the number of participants; and (3) a list of issues to be discussed. Issues raised in the hearing will be limited to those raised in the respective case briefs. If a request for a hearing is made, Commerce intends to hold the hearing at a time and date to be determined. An electronically filed hearing request must be received successfully in its entirety by Commerce's electronic records system, ACCESS by 5 p.m. Eastern Time within 30 days after the date of publication of this notice.

¹³ See 19 CFR 351.310(c).

Assessment Rates

Upon completion of the final results of this administrative review, Commerce shall determine, and U.S. Customs and Border Protection (CBP) shall assess, antidumping duties on all appropriate entries.¹⁴ If the weighted average dumping margin for Kenertec is not zero or de minimis (i.e., less than 0.5 percent) in the final results of this review, we intend to calculate importer-specific ad valorem antidumping duty assessment rates based on the ratio of the total amount of dumping calculated for each importer's examined sales to the total entered value of those same sales in accordance with 19 CFR 351.212(b)(1).¹⁵ If the weighted-average dumping margin or an importer-specific assessment rate is zero or de minimis in the final results of review, we intend to instruct CBP to liquidate entries without regard to antidumping duties.¹⁶ The final results of this administrative review shall be the basis for the assessment of antidumping duties on entries of merchandise covered by the final results of this review and for future deposits of estimated duties, where applicable.¹⁷

¹⁴ See 19 CFR 351.212(b).

¹⁵ See Antidumping Proceedings: Calculation of the Weighted-Average Dumping Margin and Assessment Rate in Certain Antidumping Proceedings; Final Modification, 77 FR 8101 (February 14, 2012).

¹⁶ Id. 77 FR at 8102; see also 19 CFR 351.106(c)(2).

¹⁷ See section 751(a)(2)(C) of the Act.

For entries of subject merchandise during the POR produced by Kenertec for which it did not know that the merchandise it sold was destined for the United States, we will instruct CBP to liquidate unreviewed entries at the all-others rate if there is no rate for the intermediate company(ies) involved in the transaction.¹⁸

¹⁸ For a full discussion of this practice, see Antidumping and Countervailing Duty Proceedings: Assessment of Antidumping Duties, 68 FR 23954 (May 6, 2003).

For the companies that were not selected for individual examination, we will instruct CBP to liquidate entries at the rate established after the completion of the final results of review.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication in the Federal Register of the notice of final results of administrative review for all shipments of wind towers from Indonesia entered, or withdrawn from warehouse, for consumption on or after the date of publication as provided by section 751(a)(2)(C) of the Act: (1) the cash deposit rate for the respondents listed above will be equal to the weighted- average dumping margin established in the final results of this review, except if the rate is less than 0.50 percent and therefore de minimis within the meaning of 19 CFR 351.106(c)(1), in which case the cash deposit rate will be zero; (2) for merchandise exported by a company not covered in this review but covered in a prior segment of the proceeding, the cash deposit rate will continue to be the company-specific cash deposit rate published in the completed segment for the most recent period; (3) if the exporter is not a firm covered in this review, or a previous segment, but the producer is, then the cash deposit rate will be the rate established in the completed segment for the most recent period for the producer of the merchandise; and (4) the cash deposit rate for all other producers or exporters will continue to be 8.50 percent, the all-others rate established in the less-than-fair-value investigation.¹⁹ These deposit requirements, when imposed, shall remain in effect until further notice.

¹⁹ See Order.

Final Results of Review

Unless the deadline is otherwise extended, Commerce intends to issue the final results of this administrative review, including the results of its analysis of issues raised by interested parties in the written comments, within 120 days of publication of these preliminary results in the Federal Register, pursuant to section 751(a)(3)(A) of the Act and 19 CFR 351.213(h)(1).

Notification to Importers

This notice serves as a preliminary reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification to Interested Parties

We are issuing and publishing these preliminary results in accordance with sections 751(a)(1) and 777(i)(1) of the Act and 19 CFR 351.221(b)(4).

Dated: August 31, 2023.
Lisa W. Wang,
Assistant Secretary for Enforcement and Compliance.

Appendix I—List of Topics Discussed in the Preliminary Decision Memorandum

I. Summary

II. Background

III. Scope of the Order

IV. Discussion of the Methodology

V. Currency Conversion

VI. Recommendation

[FR Doc. 2023-19333 Filed 9-6-23; 8:45 am]

BILLING CODE 3510-DS-P